DEPARTMENT OF TRANSPORTATION

Coast Guard

[USCG-2000-6950]

Collection of Information under Review by Office of Management and Budget (OMB): 2115-0614 and 2115-0545

AGENCY: Coast Guard, DOT.

ACTION: Request for comments.

SUMMARY: In compliance with the Paperwork Reduction Act of 1995, the Coast Guard intends to request the approval of OMB for the renewal of two Information Collection Requests (ICRs). These ICRs comprise: (1) Alteration of Obstructive Bridges; and (2) Financial Responsibility for Water Pollution (Vessels). Before submitting the ICRs to OMB, the Coast Guard is asking for comments on the collections described below.

DATES: Comments must reach the Coast Guard on or before April 25, 2000.

ADDRESSES: You may mail comments to the Docket Management System (DMS) [USCG-2000-6950], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The Docket Management Facility maintains the public docket for this Request. Comments will become part of this docket and will be available for inspection or copying at room PL-401, located on the Plaza Level of the Nassif Building at the same address between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions in the docket.

Request for Comments

The Coast Guard encourages interested persons to submit written comments. Persons submitting comments should include their names and addresses, identify this document [USCG-2000-6950] and the specific ICR to which each comment applies, and give the reason(s) for each comment. Please submit all comments and attachments in an unbound format no larger than 8½ by 11 inches, suitable for copying and electronic filing. Persons wanting acknowledgment of receipt of comments should enclose stamped, self-addressed postcards or envelopes.

Information Collection Requests

1. Title: Alteration of Obstructive Bridges.

OMB Control Number: 2115-0614.

Summary: The collection of information requires the owner of a bridge whose bridge the Coast Guard has found to be an unreasonable obstruction to navigation to prepare, and submit to the Coast Guard, general plans and specifications of that bridge.

Need: Under 33 U.S.C. 494, 502, 511, and 513, the Coast Guard may determine whether a bridge is an unreasonable obstruction to navigation and can require the owner of the bridge to submit information to determine the apportionment of cost between the U.S. and the owner for alteration of that bridge.

Respondents: Owners of bridges.

Frequency: On occasion.

Burden: The estimated burden is 120 hours annually.

2. Title: Financial Responsibility for Water Pollution (Vessels).

OMB Control Number: 2115-0545.

Summary: The collection of information requires operators of vessels over 300 gross tons to submit to the Coast Guard evidence of their financial responsibility to meet the maximum amount of liability in case of an oil spill or hazardous substances.

Need: Under 22 U.S.C. 2716 and 42 U.S.C. 9608, the Coast Guard has the authority to ensure that those persons directly subject to these rules are in compliance with the provisions.

Respondents: Vessels operators or owners of vessels over 300 gross tons.

Frequency: On occasion.

Burden: The estimated burden is 2,162 hours annually.

Dated: February 17, 2000.
Daniel F. Sheehan,
Director of Information and Technology.

[FR Doc. 00-4494 Filed 2-24-00; 8:45 am]

BILLING CODE 4910-15-P